FEDERAL COMMUNICATIONS COMMISSION

[DA 05-1727]

Notice of Debarment

AGENCY: Federal Communications Commission.

ACTION: Notice.

SUMMARY: The Enforcement Bureau (“Bureau”) debars Mr. John Henry Weaver from the schools and libraries universal service support mechanism (or “E-Rate program”) for a period of three years.

DATES: Debarment commences on the date Mr. Weaver receives the debarment letter or July 13, 2005, whichever date come first, for a period of three years.

FOR FURTHER INFORMATION CONTACT: Diana Lee, Federal Communications Commission, Enforcement Bureau, Investigations and Hearings Division, Room 4-C330, 445 12th Street, SW., Washington, DC 20554. Diana Lee may be contacted by phone at (202) 418-0843 or e-mail at diana.lee@fcc.gov.

SUPPLEMENTARY INFORMATION: The Bureau has debarred Mr. Weaver from the schools and libraries universal service support mechanism for a period of three year pursuant to 47 CFR 521 and 47 CFR 0.111(a)(14). The Commission previously suspended Mr. Weaver from the schools and libraries mechanism, pending debarment proceedings. See 70 FR 12883, March 16, 2005. Attached is the debarment letter, Notice of Debarment, DA 05-1727, which was mailed to Mr. Weaver and released on June 23, 2005, that in turn attached the suspension letter, Notice of Suspension and of Proposed Debarment, DA 05-607. The complete text of the debarment letter, including attachment 1 the suspension letter, is available for public inspection and copying during regular business hours at the FCC Reference Information Center, Portal II, 445 12th Street, SW., Room CY-A257, Washington, DC 20554, In addition, the complete text is available on the FCC's Web site at http://www.fcc.gov. The text may also be purchased from the Commission's duplicating contractor, Best Copy and Printing, Inc., Portal II, 445 12th Street, SW., Room CY-B420, Washington, DC 20554, telephone (202) 488-5300 or (800) 378-3160, facsimile (202) 488-5563, or via e-mail http://www.bcpiweb.com.

Federal Communications Commission.
William H. Davenport,
Chief, Investigations and Hearings Division, Enforcement Bureau.

The notice of debarment and suspension letters follows:

June 23, 2005.

Via certified mail, return receipt requested

John Henry Weaver, 146 Weldon Drive, York, PA 17404.

Re: Notice of Debarment, File No. EB-03-IH-0684

Dear Mr. Weaver: Pursuant to section 54.521 of the rules of the Federal Communications Commission (the “Commission”), by this Notice of Debarment you are hereby debarred from the schools and libraries universal service support mechanism (or “E-Rate program”) for a period of three years.¹

¹ See 47 CFR 0.111(a)(14), 54.521.

On March 8, 2005, the Enforcement Bureau (the “Bureau”) sent you a Notice of Suspension and Proposed Debarment (the “Notice of Suspension”).² That Notice of Suspension was published in the Federal Register on March 16, 2005.³ The Notice of Suspension suspended you from the schools and libraries universal service support mechanism and described the basis for your proposed debarment, the applicable debarment procedures, and the effect of debarment.⁴

² Letter from William H. Davenport, Chief, Investigations and Hearings Division, Enforcement Bureau, Federal Communications Commission, to John Henry Weaver, Notice of Suspension and Proposed Debarment, 20 FCC Rcd 5130 (Inv. & Hearings Div., Enf. Bur. 2005) (Attachment 1).

³ 70 FR 12883 (Mar. 16, 2005).

⁴ See Notice of Suspension, 20 FCC Rcd at 5130-32.

Pursuant to the Commission's rules, any opposition to your suspension or its scope or to your proposed debarment or its scope had to be filed with the Commission no later than thirty (30) calendar days from the earlier date of your receipt of the Notice of Suspension or publication of the Notice of Suspension in the Federal Register.⁵ The Commission did not receive any such opposition.

⁵ See 47 CFR 54.521(e)(3) and (4). That date occurred no later than April 15, 2005. See supra note 3.

As discussed in the Notice of Suspension, on or about March 1, 2005, you were convicted of participating in a conspiracy that involves receiving $1.9 million in kickback payments from Ronald R. Morrett of EMO Communications, Inc., while you were responsible for certifying that the company had performed work specified in a contract that is 80 percent funded by the E-Rate program, and concealing those payments by causing some of the payments to be funneled through various bank accounts belonging to third parties.⁶ Such conduct constitutes the basis for your debarment, and your conviction falls within the categories of causes for debarment under section 54.521(c) of the Commission's rules.⁷ For the foregoing reasons, you are hereby debarred for a period of three years from the debarment date, i.e., the earlier date of your receipt of this Notice of Debarment or its publication date in the Federal Register.⁸ Debarment excludes you, for the debarment period, from activities “associated with or related to the schools and libraries support mechanism,” including “the receipt of funds or discounted services through the schools and libraries support mechanism, or consulting with, assisting, or advising applicants or service providers regarding the schools and libraries support mechanism.” ⁹

⁶ Notice of Suspension, 20 FCC Rcd at 5131.

⁷ Id. at 5132; 47 CFR 54.521(c).

⁸ See Notice of Suspension, 20 FCC Rcd at 5131-32.

⁹ See 47 CFR 54.521(a)(1), 54.521(a)(5), 54.521(d); Notice of Suspension, 20 FCC Rcd at 5132.

Sincerely,

William H. Davenport,

Chief, Investigations and Hearings Division, Enforcement Bureau.

cc: Gerald Lord, Esq., Miller, Poole & Lord, LLP; Kristy Carroll, Esq., USAC (E-mail); Marty Carlson, Esq., Assistant United States Attorney, Middle District of Pennsylvania (E-mail).

Attachment 1

March 8, 2005.

[DA 05-607]

Via Certified Mail

Return Receipt Requested

John Henry Weaver, 146 Weldon Drive, York, PA 17404.

Re: Notice of Suspension and of Proposed Debarment; File No. EB-03-IH-0684

Dear Mr. Weaver: The Federal Communications Commission (“FCC” or “Commission”) has received notice of your March 1, 2005 conviction pursuant to 18 U.S.C. 371 and 666 for conspiracy to engage in bribery in a federally funded program.¹ Consequently, pursuant to 47 CFR 54.521, this letter constitutes official notice of your suspension from the schools and libraries universal service support mechanism. In addition, the Enforcement Bureau (“Bureau”) hereby notifies you that we are commencing debarment proceedings against you.²

¹ Any further reference in this letter to “your conviction” refers to your March 1, 2005 conviction based on your December 8, 2003 guilty plea to this count because you “did knowingly combine, conspire, confederate and agree with persons * * * to corruptly give, offer and agree to give things of value to another person with the intent to influence an agent of the Harrisburg School District.” See United States v. Weaver, Criminal Docket No. 03-337, Information at 4 (M.D.Pa. filed December 8, 2003) (“Weaver Information”); United States v. Weaver, Criminal Docket No. 03-337, Plea Agreement at 1-2 (M.D.Pa. filed December 8, 2003) (“Weaver Plea Agreement”); United States v. Weaver, Judgment (M.D.Pa. filed on March 1, 2005 and entered on March 4, 2005) (“Weaver Judgment”).

² 47 CFR 54.521; 47 CFR 0.111(a)(14) (delegating to the Enforcement Bureau authority to resolve universal service suspension and debarment proceedings pursuant to 47 CFR 54.521).

I. Notice of Suspension

Pursuant to section 54.521(a)(4) of the Commission's rules,³ your conviction requires the Bureau to suspend you from participating in any activities associated with or related to the schools and libraries fund mechanism, including the receipt of funds or discounted services through the schools and libraries fund mechanism, or consulting with, assisting, or advising applicants or service providers regarding the schools and libraries support mechanism.⁴ Your suspension becomes effective upon the earlier of your receipt of this letter or publication of notice in the Federal Register.⁵

³ 47 CFR 54.521(a)(4). See Schools and Libraries Universal Service Support Mechanism, Second Report and Order and Further Notice of Proposed Rulemaking, 18 FCC Rcd 9202, 9225-9227, ¶¶ 67-74 (2003) (“Second Report and Order”).

⁴ Second Report and Order, 18 FCC Rcd at 9225, ¶ 67; 47 U.S.C. 254; 47 CFR 54.502-54.503; 47 CFR 54.521(a)(4).

⁵ Second Report and Order, 18 FCC Rcd at 9226, ¶ 69; 47 CFR 54.521(e)(1).

Suspension is immediate pending the Bureau's final debarment determination. You may contest this suspension or the scope of this suspension by filing arguments in opposition to the suspension, with any relevant documentation. Your request must be received within 30 days after you receive this letter or after notice is published in the Federal Register, whichever comes first.⁶ Such requests, however, will not ordinarily be granted.⁷ The Bureau may reverse or limit the scope of suspension only upon a finding of extraordinary circumstances.⁸ Absent extraordinary circumstances, the Bureau will decide any request for reversal or modification of suspension within 90 days of its receipt of such request.⁹

⁶ See Second Report and Order, 18 FCC Rcd at 9226, ¶ 70; 47 CFR 54.521(e)(4).

⁷ Second Report and Order, 18 FCC Red at 9226, ¶ 70.

⁸ 47 CFR 54.521(f).

⁹ Second Report and Order, 18 FCC Rcd at 9226, ¶ 70; 47 CFR 54.521(e)(5), 54.521(f).

II. Notice of Proposed Debarment

A. Reasons for and Cause of Debarment

Commission rules establish procedures to prevent persons who have “defrauded the government or engaged in similar acts through activities associated with or related to the schools and libraries support mechanism” from receiving the benefits associated with that program.¹⁰ On March 1, 2005, you were convicted based on a December 8, 2003 plea of guilty to participating in a conspiracy with Ronald R. Morrett, Jr. (“Morrett”) of EMO Communications, Inc. (“EMO”).¹¹ You admitted to the following acts: (1) Receiving $1.9 million in kickback payments from Morrett while you were responsible for certifying Morrett and EMO had performed work specified in a contract that is 80% funded by the federal E-rate program; and (2) concealing those payments by causing some of the payments to be funneled through various bank accounts belonging to third parties.¹² These actions constitute the conduct or transactions upon which this debarment proceeding is based.¹³ Moreover, your conviction on the basis of these acts falls within the categories of causes for debarment defined in section 54.521(c) of the Commission's rules.¹⁴ Therefore, pursuant to section 54.521(a)(4) of the Commission's rules, your conviction requires the Bureau to commence debarment proceedings against you.

¹⁰ Second Report and Order, 18 FCC Rcd at 9225, ¶ 66.

¹¹ Weaver Judgment at 1; Weaver Plea Agreement at 1-2.

¹² Weaver Information 2-3, 6-7; Weaver Plea Agreement at 1-2.

¹³ Second Report and Order, 18 FCC Rcd at 9226, ¶ 70; 47 CFR 54.521(e)(2)(i).

¹⁴ “Causes for suspension and debarment are the conviction of or civil judgment for attempt or commission of criminal fraud, theft, embezzlement, forgery, bribery, falsification or destruction of records, making false statements, receiving stolen property, making false claims, obstruction of justice and other fraud or criminal offense arising out of activities associated with or related to the schools and libraries support mechanism.” 47 CFR 54.521(c). Such activities “include the receipt of funds or discounted services through the schools and libraries support mechanism, or consulting with, assisting, or advising applicants or service providers regarding schools and libraries support mechanism described in this section ([47 CFR 54.500 et seq.).” 47 CFR 54.521(a)(1).

B. Debarment Procedures

You may contest debarment or the scope of the proposed debarment by filing arguments and any relevant documentation within 30 calendar days of the earlier of the receipt of this letter or of publication in the Federal Register.¹⁵ Absent extraordinary circumstances, the Bureau will debar you.¹⁶ Within 90 days of receipt of any opposition to your suspension and proposed debarment, the Bureau, in the absence of extraordinary circumstances, will provide you with notice of its decision to debar.¹⁷ If the Bureau decides to debar you, its decision will become effective upon the earlier of your receipt of a debarment notice or publication of its decision in the Federal Register.¹⁸

¹⁵ See Second Report and Order, 18 FCC Rcd at 9226, ¶ 70; 47 CFR 54.521(e)(2)(i), 54.521(e)(3).

¹⁶ Second Report and Order, 18 FCC Rcd at 9227, ¶ 74.

¹⁷ See id., 18 FCC Rcd at 9226, ¶ 70; 47 CFR 54.521(e)(5).

¹⁸ Id. The Commission may reverse a debarment, or may limit the scope or period of debarment upon a finding of extraordinary circumstances, following the filing of a petition by you or an interested party or upon motion by the Commission. 47 CFR 54.521(f).

C. Effect of Debarment

If and when your debarment becomes effective, you will be prohibited from participating in activities associated with or related to the schools and libraries support mechanism for at least three years from the date of debarment.¹⁹ The Bureau may, if necessary to protect the public interest, extend the debarment period.²⁰

¹⁹ Second Report and Order, 18 FCC Rcd at 9225, ¶ 67; 47 CFR 54.521(d), 54.521(g).

²⁰ Id.

Please direct any responses to the following address: Diana Lee, Federal Communications Commission, Enforcement Bureau, Investigations and Hearings Division, Room 4-C443, 445 12th Street, SW., Washington, DC 20554.

If you submit your response via hand-delivery or non-United States Postal Service delivery (e.g., Federal Express, DHL, etc.), please send your response to Ms. Lee at the following address: Federal Communications Commission, 9300 East Hampton Drive, Capitol Heights, MD 20743.

If you have any questions, please contact Ms. Lee via mail, by telephone at (202) 418-1420 or by e-mail at diana.lee@fcc.gov. If Ms. Lee is unavailable, you may contact Hillary DeNigro by telephone at (202) 418-1420 and by e-mail at hillary.denigro@fcc.gov.

Sincerely yours,

William H. Davenport,

Chief,

Investigations and Hearings Division, Enforcement Bureau.

cc: Gerald Lord, Miller, Poole & Lord, LLP, Kristy Carroll, USAC (E-mail), Marty Carlson, United States Attorney, Middle District of Pennsylvania (E-mail).

[FR Doc. 05-13748 Filed 7-12-05; 8:45 am]

BILLING CODE 6712-01-P